DEPARTMENT OF TRANSPORTATION

Pipeline and Hazardous Materials Safety Administration

49 CFR Part 172

Hazardous Materials Table, Special Provisions, Hazardous Materials Communications, Emergency Response Information, Training Requirements, and Security Plans

CFR Correction

In Title 49 of the Code of Federal Regulations, parts 100 to 177, revised as of October 1, 2015, on page 269, in § 172.101, in the Hazardous Materials Table, for the entry “Phenylmercuric compounds, n.o.s.” add “G” in the first column.

[FR Doc. 2016-09615 Filed 4-22-16; 8:45 am]

BILLING CODE 1505-01-D